DEPARTMENT OF EDUCATION

Notice of the Rescission of Outdated Guidance Documents

AGENCY: Office of the Secretary, Department of Education.

ACTION: Notice; correction.

SUMMARY: On August 31, 2020, we published in the Federal Register a notice announcing the guidance documents the Department of Education (Department) is rescinding because they are outdated, after conducting a review of its guidance under Executive Order (E.O.) 13891 (85 FR 54148). This notice makes corrections to the included list of documents for the Office of Postsecondary Education.

DATES: This correction is applicable on January 19, 2021.

FOR FURTHER INFORMATION CONTACT: Lynn Mahaffie, Department of Education, 400 Maryland Avenue SW, Room 6E-231, Washington, DC 20202. Telephone: (202) 453-7862. Email: Lynn.Mahaffie@ed.gov.

If you use a telecommunications device for the deaf (TDD) or a text telephone (TTY), call the Federal Relay Service (FRS), toll-free, at 1-800-877-8339.

SUPPLEMENTARY INFORMATION: On October 9, 2019, the President issued E.O. 13891 titled “Promoting the Rule of Law Through Improved Agency Guidance Documents.” 84 FR 55235. Section 3(b) of the E.O. requires the Department to “review its guidance documents and, consistent with applicable law, rescind those guidance documents that it determines should no longer be in effect.” On August 31, 2020, we published a notice in the Federal Register notifying the public, including the Department's stakeholders, of the guidance documents the Department was rescinding as outdated (e.g., superseded by subsequent statutory amendments or enactments), in accordance with section 3(b) of E.O. 13891 (85 FR 54148) (the August 31 Notice).

The August 31 Notice inadvertently included 18 documents that were not intended to be rescinded. We are revising the list of rescinded documents for the Office of Postsecondary Education to remove the inadvertently included documents.

Corrections

In FR Doc 2020-19144 appearing on page 54148 in the Federal Register of August 31, 2020, the following corrections are made:

1. On page 54167, the 27th entry from the top of the page, entitled “Sample Default Prevention and Management Plan . . . 9/30/2005” is removed.

2. On page 54169, the 17th entry from the top of the page, entitled “FWS Community Service Requirements . . . 5/17/2007” is removed.

3. On page 54171, the third entry from the bottom of the page, entitled “Guidance to Institutions and Accrediting Agencies Regarding a Credit Hour as Defined in the Final Regulations Published on October 29, 2010 . . . 3/18/2011” is removed.

4. On page 54172, the third entry from the top of the page, entitled “Implementation of Program Integrity regulations . . . 7/20/2011” is removed.

5. On page 54172, the 36th entry from the top of the page, entitled “Title IV Eligibility for Students Without a Valid High School Diploma . . . 12/6/2012” is removed.

6. On page 54172, the 39th entry from the top of the page, entitled “Charges Incurred at Bookstores . . . 11/28/2012” is removed.

7. On page 54173, the 26th entry from the bottom of the page, entitled “Competency-Based Education Programs—Q&A . . . 12/19/2014” is removed.

8. On page 54173, the fourth entry from the bottom of the page, entitled “FY 2016 Sequester Required Changes to the Title IV Student Aid Programs . . . 4/23/2015” is removed.

9. On page 54174, the 29th entry from the top of the page, entitled “2017-2018 Award Year: FAFSA® Information to be Verified and Acceptable Documentation . . . 4/5/2016” is removed.

10. On page 54174, the 30th entry from the top of the page, entitled “Changes to Title IV Eligibility for Students Without a Valid High School Diploma Who Are Enrolled in Eligible Career Pathway Programs . . . 5/9/2016” is removed.

11. On page 54174, the 31st entry from the top of the page, entitled “FY 2017 Sequester Required Changes to the Title IV Student Aid Programs . . . 5/31/2016” is removed.

12. On page 54174, the 34th entry from the top of the page, entitled “2017-2018 Federal Pell Grant Payment and Disbursement Schedules . . . 10/18/2016” is removed.

13. On page 54174, the 19th entry from the bottom of the page, entitled “Withdrawal of Dear Colleague Letter 15-14 . . . 3/16/2017” is removed.

14. On page 54174, the 17th entry from the bottom of the page, entitled “Subject: 2018-2019 Award Year: FAFSA® Information to be Verified and Acceptable Documentation . . . 5/25/2017” is removed.

15. On page 54174, the third entry from the bottom of the page, entitled “Subject: Modifications to the Campus-Based Programs for institutions and students affected by Hurricanes or Tropical Storms Harvey, Irma, and Maria . . . 3/26/2018” is removed.

16. On page 54174, the second entry from the bottom of the page, entitled “Subject: REVISED 2018-2019 Federal Pell Grant Payment and Disbursement Schedules . . . 4/10/2018” is removed.

17. On page 54175, the second entry from the top of the page, entitled “Subject: Webinar Recording-How to Correct Historical Enrollment Reporting in NSLDS . . . 6/19/2019” is removed.

18. On page 54175, the fourth entry from the top of the page, entitled “Subject: Online Training Resource-Financial Aid Administrator's Took Kit . . . 9/10/2019” is removed.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mitchell Zais,
Acting Secretary of Education.

[FR Doc. 2021-01123 Filed 1-15-21; 8:45 am]

BILLING CODE 4000-01-P